Title 3—

The President

Proclamation 7831 of October 12, 2004

National School Lunch Week, 2004

By the President of the United States of America

A Proclamation

The National School Lunch Program has provided healthy, affordable lunches to our Nation's children for almost 60 years. The program now serves more than 28 million children each day, many of whom might not otherwise eat nutritious lunches. During National School Lunch Week, we recognize the program's contributions to the health, well-being, and education of our Nation's youth.

In addition to providing the good nutrition that helps young people succeed in school, healthy school lunches and after-school snacks can help alleviate childhood obesity and lower children's risk of developing health problems. The National School Lunch Program also shares information about healthy eating habits with children, families, and communities; works to provide our children with the best possible school meals; and offers technical training and assistance to school food-service staff. To support this program and other important child nutrition programs, earlier this year I signed into law the Child Nutrition and WIC Reauthorization Act of 2004. This bill expands access to programs for children of Armed Services personnel, promotes healthy food choices, and makes it easier for parents to enroll their eligible children.

The National School Lunch Program has accomplished a great deal in providing children with nutritious meals, and we must continue working to ensure that every child is well-nourished, healthy, and active. While children who participate in the school lunch program consume more fruits, vegetables, milk, and protein than students who obtain lunch elsewhere, over 60 percent of our Nation's young people still eat more than the daily recommended serving of fat, and less than 20 percent eat the recommended daily servings of fruits and vegetables. To promote the right choices, the Department of Agriculture's HealthierUS School Challenge is encouraging schools and local communities to create an environment that supports healthy lifestyles for our Nation's children.

The success of the National School Lunch Program stems from the hard-working Americans who plan, prepare, and serve meals to millions of children every day. In recognition of the contributions of the National School Lunch Program to the health, education, and well-being of America's children, the Congress, by joint resolution of October 9, 1962 (Public Law 87-780), as amended, has designated the week beginning on the second Sunday of October of each year as “National School Lunch Week” and has requested the President to issue a proclamation in observance of this week.

NOW, THEREFORE, I, GEORGE W. BUSH, President of the United States of America, do hereby proclaim October 10 through October 16, 2004, as National School Lunch Week. I call upon all Americans to join the dedicated individuals who administer the National School Lunch Program in appropriate activities that support the health and well-being of our Nation's children.

IN WITNESS WHEREOF, I have hereunto set my hand this twelfth day of October, in the year of our Lord two thousand four, and of the Independence of the United States of America the two hundred and twenty-ninth.

B

[FR Doc. 04-23209

Filed 10-13-04; 10:22 am]

Billing code 3195-01-P